DEPARTMENT OF ENERGY

Federal Energy Regulatory Commission

[Docket No. CP00-396-000]

Delmarva Power & Light Company; Notice of Application

June 30, 2000.

Take notice that on June 23, 2000, Delmarva Power & Light Company (Delmarva), 800 King Street, Wilmington, Delaware 19899, filed in Docket No. CP00-396-000 an application pursuant to Section 7(b) of the Natural Gas Act (NGA) for authorization to abandon by transfer to Texas Eastern Pipeline Company (TETCO) its undivided ownership interest in the Delmarva Lateral, all as more fully set forth in the application which is on file with the Commission and open to public inspection. This filing may be viewed on the web at http://www.ferc.fed.us/online/rims.htm (call 202-208-2222 for assistance).

Any questions regarding the application should be directed to I. David Rosenstein, Senior Counsel, Delmarva Power & Light Company, 800 King Street, Wilmington, Delaware 19899.

Specifically, Delmarva proposes to abandon by transfer to TETCO, the Delmarva Lateral,¹ a 3.97 mile 16-inch pipeline extending from an interconnection with TETCO's Line 1-A-1 in Delaware County, Pennsylvania to Delmarva's distribution system in New Castle County, Delaware. The abandonment will enable the completion of a corporate reorganization. Delmarva states that TETCO will acquire ownership of the Delmarva Lateral under its Part 157 blanket construction certificate and will continue to operate and maintain it and provide open access transportation service pursuant to its Part 284 blanket transportation certificate and its FERC Gas Tariff.

¹ Certificate was issued in Docket No. CP92-153-000 (59 FERC ¶ 61,396, amended in 60 FERC ¶62,132 (1992)).

Delmarva states that currently it uses all the natural gas that is transports through the Delmarva lateral as either system supply, as supply for retail customers being served by third parties under competitive conditions, or as fuel for its Hay Road and Edge More generating facilities. Delmarva submits that the proposed abandonment of the Delmarva Lateral by transfer to TETCO will not in any way degrade or adversely impact the existing services provided to entities that currently receive service on the Delmarva Lateral since TETCO will provide transportation service on the lateral. After the corporate reorganization, Delmarva will continue to be responsible for the acquisition of system supply, while Conectiv Energy Supply, Inc. will be responsible for gas purchased for resale to competitive retail customers and for fuel for the generating facilities.

Any person desiring to be heard or any person desiring to make any protests with reference to said application should on or before July 21, 2000, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a part in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that permission and approval for the proposed abandonment are required by the public convenience and necessity. If a motion for leave to intervene is time filed, or if the Commission on its own motion believes that a formal hearing is require, further notice of such hearing will be duly given.

Under the procedure herein provided for, unless otherwise advised, it will be unnecessary for Delmarva to appear or be represented at the hearing.

David P. Boergers,
Secretary.

[FR Doc. 00-17167 Filed 7-6-00; 8:45 am]

BILLING CODE 6717-01-M